DEPARTMENT OF THE INTERIOR

Fish and Wildlife Service

50 CFR Part 17

RIN 1018-AT57

Endangered and Threatened Wildlife and Plants; Final Rule To Designate Critical Habitat for the Santa Ana Sucker (Catostomus santaanae)

AGENCY: Fish and Wildlife Service, Interior.

ACTION: Final rule; correction.

SUMMARY: On January 4, 2005, we, the U.S. Fish and Wildlife Service, published a final rule to designate critical habitat for the threatened Santa Ana sucker (Catostomus santaanae) pursuant to the Endangered Species Act of 1973, as amended. Because we made an error in use of amendatory language, one of the final rule's two regulatory amendments could not be properly reflected in the Code of Federal Regulations. This correction document rectifies that error.

DATES: Effective February 3, 2005.

FOR FURTHER INFORMATION CONTACT: Sara Prigan, Federal Register Liaison, Division of Policy and Directives Management, U.S. Fish and Wildlife Service, at (703) 358-2508.

Regulation Correction

For reasons set forth in the preamble, we correct the final rule published on January 4, 2005, at 70 FR 426 by correcting amendatory instruction #3 on page 448, column 1, to read as follows:

PART 17—[CORRECTED]

§ 17.95 [Corrected]

3. Amend § 17.95(e) by revising critical habitat for the Santa Ana sucker (Catostomus santaanae) in the same alphabetical order as this species occurs in § 17.11(h).

Dated: February 11, 2005.
Sara Prigan,
Fish and Wildlife Service Federal Register Liaison.

[FR Doc. 05-3047 Filed 2-16-05; 8:45 am]

BILLING CODE 4310-55-P